DEPARTMENT OF ENERGY

Federal Energy Regulatory Commission

[Project No. 5944-021]

Moretown Hydro Energy Company; Ampersand Moretown Hydro, LLC; Notice of Application for Transfer of License, and Soliciting Comments and Motions To Intervene

On September 25, 2012, Moretown Hydro Energy Company (transferor) and Ampersand Moretown Hydro, LLC (transferee) filed an application for transfer of license for the Moretown No. 8 Hydropower Project, No. 5944, located on the Mad River in Washington County, Vermont.

Applicants seek Commission approval to transfer the license for the Moretown No. 8 Hydropower Project from transferor to transferee.

Applicants' Contact: Transferor: Ms. Linda Bearisto, General Counsel, c/o Algonquin Power Fund (America) Inc., 2845 Bristol Circle, Oakville, Ontario, Canada L6H 7H7. For Transferee: Ms. Julie Perry, c/o Ampersand Hydro, LLC, 717 Atlantic Avenue, Suite 1A, Boston, MA 02111, telephone (617) 733-7202.

FERC Contact: Patricia W. Gillis (202) 502-8735.

Deadline for filing comments and motions to intervene: 15 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-5944) in the docket number field to access the document. For assistance, call toll-free 1-866-208-3372.

Dated: January 9, 2013.
Kimberly D. Bose,
Secretary.

[FR Doc. 2013-00641 Filed 1-14-13; 8:45 am]

BILLING CODE 6717-01-P